DEPARTMENT OF DEFENSE

Office of the Secretary

Defense Advisory Committee on Investigation, Prosecution, and Defense of Sexual Assault in the Armed Forces; Notice of Federal Advisory Committee Meeting

AGENCY: General Counsel of the Department of Defense, Department of Defense (DoD).

ACTION: Notice of Federal Advisory Committee meeting.

SUMMARY: The DoD is publishing this notice to announce that the following Federal Advisory Committee meeting of the Defense Advisory Committee on Investigation, Prosecution, and Defense of Sexual Assault in the Armed Forces will take place.

DATES: Open to the public, Friday, November 6, 2020, from 11:00 a.m. to 3:45 p.m. EDT.

ADDRESSES: This public meeting will be held via teleconference. To access the teleconference dial: 410-874-6300, Conference Pin: 611 989 635.

FOR FURTHER INFORMATION CONTACT: Dwight Sullivan, 703-695-1055 (Voice), dwight.h.sullivan.civ@mail.mil (Email). Mailing address is DAC-IPAD, One Liberty Center, 875 N Randolph Street, Suite 150, Arlington, Virginia 22203. Website: http://dacipad.whs.mil/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: In section 546 of the National Defense Authorization Act for Fiscal Year 2015 (Pub. L. 113-291), as modified by section 537 of the National Defense Authorization Act for Fiscal Year 2016 (Pub. L. 114-92), Congress tasked the DAC-IPAD to advise the Secretary of Defense on the investigation, prosecution, and defense of allegations of rape, forcible sodomy, sexual assault, and other sexual misconduct involving members of the Armed Forces. This will be the twentieth public meeting held by the DAC-IPAD. At this meeting the Committee will deliberate and vote on the draft DAC-IPAD review and assessment of racial and ethnic disparities in the investigation, prosecution, and conviction of Service members for sexual offenses involving adult victims within the military justice system as required by section 540I of the National Defense Authorization Act for Fiscal Year 2020. The Committee will be briefed on the developing field of restorative justice and hear from a civilian expert on this topic followed by a staff briefing and discussion on victim impact statements at sentencing as requested by Congress in the FY20 NDAA. The Committee will receive briefing and update from the Policy Subcommittee on its interviews with civilian prosecutors and defense counsel.

Agenda: 11:00 a.m.-11:10 a.m. Public Meeting Begins—Welcome and Introduction; 11:10 a.m.-12:30 p.m. DAC-IPAD Deliberations on Draft Racial and Ethnic Disparities Report; 12:30 p.m.-1:00 p.m. Lunch Break; 1:00 p.m.-2:00 p.m. Continuation of DAC-IPAD Deliberations on Draft Racial and Ethnic Disparities Report; 2:00 p.m.-3:00 p.m. Staff Presentation and Testimony from a Civilian Expert on Restorative Justice and Staff Presentation on Victim Impact Statements at Sentencing Followed by Committee Discussion on These Topics as Requested by Congress in the FY20 NDAA; 3:00 p.m.-3:30 p.m. Policy Subcommittee Briefing on Interviews with Civilian Prosecutors and Defense Counsel and Update on Subcommittee Timeline for Review of Military Pretrial Processes; 3:30 p.m.-3:45 p.m. Discussion about DAC-IPAD Bylaws, Meeting Wrap-Up and Public Comment; 3:45 p.m. Public Meeting Adjourns.

Meeting Accessibility: Pursuant to 5 U.S.C. 552b and 41 CFR 102-3.140 through 102-3.165, this meeting is open to the public. This public meeting will be held via teleconference. To access the teleconference dial: 410-874-6300, Conference Pin: 611 989 635. Please consult the website for any changes to the public meeting date or time.

Written Statements: Pursuant to 41 CFR 102-3.140 and section 10(a)(3) of the Federal Advisory Committee Act of 1972, the public or interested organizations may submit written comments to the Committee about its mission and topics pertaining to this public session. Written comments must be received by the DAC-IPAD at least five (5) business days prior to the meeting date so that they may be made available to the Committee members for their consideration prior to the meeting. Written comments should be submitted via email to the DAC-IPAD at whs.pentagon.em.mbx.dacipad@mail.mil in the following formats: Adobe Acrobat or Microsoft Word. Please note that since the DAC-IPAD operates under the provisions of the Federal Advisory Committee Act, as amended, all written comments will be treated as public documents and will be made available for public inspection. Oral statements from the public will be permitted, though the number and length of such oral statements may be limited based on the time available and the number of such requests. Oral presentations by members of the public will be permitted from 3:30 p.m. to 3:45 p.m. EST on November 6, 2020.

Dated: October 9, 2020.
Aaron T. Siegel,
Alternate OSD Federal Register Liaison Officer, Department of Defense.

[FR Doc. 2020-22897 Filed 10-15-20; 8:45 am]

BILLING CODE 5001-06-P